DEPARTMENT OF COMMERCE

National Oceanic and Atmospheric Administration

Finding of No Significant Impact and Final Environmental Assessment for the Funding, Procurement, and Operation of NOAA Small Uncrewed Aircraft Systems

AGENCY: Office of Oceanic and Atmospheric Research (OAR), National Oceanic and Atmospheric Administration (NOAA), Department of Commerce (DOC).

ACTION: Notice of issuance and availability.

SUMMARY: NOAA's Uncrewed Systems Research Transition Office (UxSRTO) in OAR announces the issuance and availability of a finding of no significant impact (FONSI) and a Final Environmental Assessment (EA) for the Funding, Procurement, and Operation of NOAA Small Uncrewed Aircraft Systems (UAS). The environmental review process led us to conclude that the proposed action will not have a significant effect on the human environment. Therefore, an environmental impact statement will not be prepared.

ADDRESSES: The Final EA and FONSI are available online at https://orta.research.noaa.gov/wp-content/uploads/2023/06/PEA-for-NOAA-Small-UAS-and-FONSI-Signed-May-2023.pdf.

FOR FURTHER INFORMATION CONTACT: Bryan Cole, Director, NOAA Uncrewed Systems Research Transition Office Email: bryan.cole@noaa.gov or (831) 601-2107.

SUPPLEMENTARY INFORMATION: A draft of the EA was published in the Federal Register (88 FR 9872) for a 30-day comment period, from February 15, 2023 to March 17, 2023. No comments were received. The proposed action analyzed in the EA is the funding, procurement, and operation of small UAS platforms in any environment for which NOAA has a mission and potential need for UAS resources to help meet related mission objectives.

For purposes of the assessment, the use of the term “small UAS” follows suit with the Federal Aviation Administration's (FAA) definition of “small unmanned aircraft” (14 CFR 107.3), which weigh “less than 55 pounds on takeoff, including everything that is on board or otherwise attached to the aircraft”. The geographic scope of the action area includes the airspace ranging from just above the surface (for launch and recovery), extending upward to an operational altitude of approximately 400 ft above ground level (AGL) for a majority of applications, but may also include operational altitudes up to as high as 100,000 ft mean sea level (MSL) for a few others.

The analysis in the EA is at a programmatic level, and it evaluates the potential environmental consequences from a broad perspective (i.e., multiple types of small UAS platforms used to supplement, enhance, or replace a variety of existing methods of data collection). The EA specifies procedures for confirming that the impacts of site-specific actions considered pursuant to the proposed action are consistent with predictions for the proposed action.

In all applicable scenarios reviewed, the proposed action would yield no more than negligible impacts to any specific resource, and would not result in significant impacts overall.

The EA and FONSI were prepared in accordance with the National Environmental Policy Act of 1969 (NEPA), as amended (42 U.S.C. 4321 et seq.) and Council on Environmental Quality implementing regulations (40 CFR parts 1500-1508), as well as NOAA's procedures for compliance with NEPA as specified in the Companion Manual to NOAA Administrative Order 216-6A.

David Holst,
Chief Financial Officer/Administrative Officer, Office of Oceanic and Atmospheric Research, National Oceanic and Atmospheric Administration.

[FR Doc. 2023-14951 Filed 7-13-23; 8:45 am]

BILLING CODE 3510-KD-P